DEPARTMENT OF HEALTH AND HUMAN SERVICES

Administration for Children and Families

New Policies and Procedural Requirements for Electronic Submission of State Plans, and Program and Financial Reporting Forms, for Mandatory Grant Programs

AGENCY: Office of Administration (OA), Administration for Children and Families (ACF), Department of Health and Humans Services (HHS).

ACTION: Notice for public comment of new policies and procedural requirements for the electronic submission of State plans, and program and financial reporting forms, for mandatory grant programs.

SUMMARY: The Administration for Children and Families (ACF), an Operating Division of the Department of Health and Human Services (HHS), announces the opportunity for public comment on our plan to implement required electronic submission of State plans, which includes applications as applicable; and programmatic and financial reporting forms, for mandatory grant programs. In accordance with the e-Government initiatives mandated by the Federal Financial Assistance Management Improvement Act of 1999, ACF officially acknowledges that electronically generated and/or stored documents are recognized equivalents of an official paper grant file. Recognizing the equivalency of such documents eliminates duplicative effort and administrative burden for Federal grant applicants, recipients, and the awarding agency, by facilitating the submission and storage of official grant files. ACF has previously afforded recipients of mandatory State grant programs the option of submitting State plans, and programmatic and financial reporting forms, in both electronic and paper formats. This notice announces that recipients of mandatory State grant programs will now be required to submit State plans, and programmatic and financial reporting forms, electronically. The electronic portal used to support this effort is the ACF On-Line Data Collection (OLDC) system, which is available to State applicants and grantees at https://extranet.acf.hhs.gov/oldcdocs/materials.html.

DATES: Submit written or electronic comments on the policies and procedures announced in this Notice, on or before August 27, 2013.

ADDRESSES: The public may submit written or electronic comments concerning this notice to Karen Shields, Grants Policy Specialist, Department of Health and Human Services, Administration for Children and Families, Division of Grants Policy, 370 L'Enfant Promenade SW., Aerospace Building, 6th Floor East, Washington, DC 20447. Email address: karen.shields@acf.hhs.gov. Delays may occur in mail delivery to Federal offices; therefore, a copy of submitted comments may also be faxed to (202) 205-4270.

Received comments will be available for inspection by members of the public at the Office of Administration, Aerospace Building, Division of Grants Policy, 901 D Street SW., 6th Floor East, Washington, DC 20447.

FOR FURTHER INFORMATION CONTACT: Karen Shields, Grants Policy Specialist, Department of Health and Human Services, Administration for Children and Families, OA/Division of Grants Policy, 370 L'Enfant Promenade SW., Aerospace Building, 6th Floor East, Washington, DC 20447. Email: karen.shields@acf.hhs.gov. Fax: (202) 205-4270.

SUPPLEMENTARY INFORMATION:

Electronic Submission of Mandatory Program State Plans

In previous fiscal years, recipients of mandatory State grant programs had the option of submitting State plans in a format of their choosing. Effective October 1, 2013, ACF will require the use of the Standard Form SF-424M Mandatory Form when preparing State plans. The form is available to applicants and grantees within the OLDC system at https://extranet.acf.hhs.gov/oldcdocs/materials.html.

Electronic Submission of Program Progress and Financial Reporting Forms Beginning with the effective date of October 1, 2013, the following reporting forms for mandatory State grant programs must be submitted electronically through the OLDC at https: //extranet.acf.hhs.gov/oldcdocs/materials.html.

Program name | Form title.
Abstinence Education Grant Program | AEGP Performance Progress Report (PPR).
Abstinence Education Grant Program | Form SF-425: Federal Financial Report (FFR).
Adoption Assistance | Form CB-496: Title IV-E Programs Quarterly Financial Report.
Adoption Incentive Payments | Form SF-425: Federal Financial Report (FFR).
Chafee (formerly ILP) | Form SF-425: Federal Financial Report (FFR).
Chafee Ed & Training Vouchers State Grants | Form SF-425: Federal Financial Report (FFR).
Child Abuse and Neglect State Grant Part 1 | Form SF-425: Federal Financial Report (FFR).
Child Care and Development Fund Mandatory & Matching | Form ACF-696T: Child Care and Development Fund Annual Financial Report for Tribes.
Child Care and Development Fund Mandatory & Matching | Form ACF-402: Improper Authorizations.
Child Care and Development Fund Mandatory & Matching | Form ACF-696: Child Care and Development Fund Financial Report for States and Territories.
Child Support Enforcement—States | Form OCSE34A: Child Support Enforcement Program Quarterly Collection Report.
Child Support Enforcement—States | Form OCSE-396A: Child Support Enforcement Program Quarterly Financial Report.
Child Support Enforcement—States | Form OCSE 157: Child Support Enforcement Annual Data Report.
Child Support Enforcement—Tribes | Form OCSE-75: Tribal Child Support Enforcement Annual Data Report.
Child Support Enforcement—Tribes | Form OCSE34A: Child Support Enforcement Program Quarterly Collection Report.
Child Support Enforcement—Tribes | Form SF-425: Federal Financial Report (FFR).
Child Welfare Social Services | Form SF-425: Federal Financial Report (FFR).
Children's Justice Act | Form SF-425: Federal Financial Report (FFR).
Community Services Block Grant | Form SF-425: Federal Financial Report (FFR).
Community-Based Child Abuse Prevention (formerly Community-Based Family Resource and Support) | Form SF-425: Federal Financial Report (FFR).
Family Violence Prevention & Services State Grants | FVPS Performance Progress Report (PPR)—(State).
Family Violence Prevention & Services Tribal Grants | FVPS Performance Progress Report (PPR)—(Tribal).
Family Violence Prevention & Services State Grants | Form SF-425: Federal Financial Report (FFR).
Foster Care | Form CB-496: Title IV-E Programs Quarterly Financial Report.
Guardianship Assistance | Form CB-496: Title IV-E Programs Quarterly Financial Report.
Healthy Marriages/Healthy Relationships Demo | Form SF-425: Federal Financial Report (FFR).
Leveraging (LIHEAP) | Form SF-425: Federal Financial Report (FFR).
Low Income Home Energy Assistance | Form SF-425: Federal Financial Report (FFR).
Native Employment Works Program | Form SF-425: Federal Financial Report (FFR).
Promoting Safe and Stable Families Caseworker Visitation | Form SF-425: Federal Financial Report (FFR).
Personal Responsibility Education Program | PREP Performance Progress Report (PPR).
Personal Responsibility Education Program | Form SF-425: Federal Financial Report (FFR).
Promoting Safe and Stable Families | Form SF-425: Federal Financial Report (FFR).
Refugee Cash and Medical Assistance | Form ORR-1: Cash and Medical Assistance Program Estimates.
Refugee Cash and Medical Assistance | Form ORR-2: Quarterly Report on Expenditures and Obligations.
Refugee Social Services | Form SF-425: Federal Financial Report (FFR).
Refugee Targeted Assistance | Form SF-425: Federal Financial Report (FFR).
Residential Energy Assistance Challenge Options Program | Form SF-425: Federal Financial Report (FFR).
Social Services Block Grant | Form SF-425: Federal Financial Report (FFR).
Social Services Emergency Disaster Relief | Form SF-425: Federal Financial Report (FFR).
State Access and Visitation | Form SF-425: Federal Financial Report (FFR).
State Court Improvement—Basic Program | Form SF-425: Federal Financial Report (FFR).
State Court Improvement—Data Program | Form SF-425: Federal Financial Report (FFR).
State Court Improvement—Training Program | Form SF-425: Federal Financial Report (FFR).
Statewide Domestic Violence Coalition | Form SF-425: Federal Financial Report (FFR).
Temporary Assistance for Needy Families | Form ACF-196T: Tribal TANF Financial Report.
Temporary Assistance for Needy Families | ACF-196T: TANF ARRA Financial Report.
Temporary Assistance for Needy Families | Form SF-425: Federal Financial Report (FFR).
Temporary Assistance for Needy Families | ACF-204.
Temporary Assistance for Needy Families | Form ACF-196: TANF Quarterly Financial Report.
Tribal Construction | Form SF-425: Federal Financial Report (FFR).

Exemptions From the Electronic Submission Requirement

ACF recognizes that some of the recipient community may have limited or no Internet access, and/or limited computer capacity, which may prohibit uploading large files to the Internet through the OLDC system. To accommodate such recipients, ACF is instituting an exemption procedure, on a case-by-case basis, that will allow such recipients to submit hard copy, paper State plans and reporting forms by the United States Postal Service, hand-delivery, recipient courier, overnight/express mail couriers, or other representatives of the recipient.

Additionally, on a case-by-case basis, we will consider requests to accept hard copy, paper submissions of State plans and reporting forms when circumstances such as natural disasters occur (floods, hurricanes, etc.); or when there are widespread disruptions of mail service; or in other rare cases that would prevent electronic submission of the documents.

Recipients will be required to submit a written statement to ACF that the recipient qualifies for an exemption under one of these grounds: lack of Internet access; or limited computer capacity that prevents the uploading of large files to the Internet; the occurrence of natural disasters (floods, hurricanes, etc.); or when there are widespread disruptions of mail service; or in other rare cases that would prevent electronic submission of the documents.

Exemption requests will be reviewed and the recipient will be notified of a decision to approve or deny the request. The written statement must be sent to the cognizant ACF Program Official and to ACF's Grants Management Office point of contact shown in funding opportunity announcements (if applicable) or in a previously received Notices of Award. Exemption requests may be submitted by regular mail or by email.

In all cases, the decision to allow an exemption to accept submission of hard copy, paper State plans and reporting forms will rest with the cognizant ACF Program Office. Exemptions are applicable only to the Federal fiscal year in which they are received and approved. If an exemption is necessary for a future Federal fiscal year, a request must be submitted during each Federal fiscal year for which an exemption is necessary.

Records Retention

The HHS regulations pertaining to the retrieval, retention, disposition, and destruction of official grant files, 45 CFR 92.42, remains in effect for electronically submitted documents.

Future Implementation

This guidance represents the initial phase of ACF's transition to required electronic submission of official grant documents for recipients of mandatory State grant programs. ACF will continue to communicate transition plans as they evolve, and will provide the recipient communities and the general public with sufficient notice of implementation details. In general, notices will be published in the Federal Register at least 60 days before the implementation becomes effective.

Universal Identifier (DUNS) and SAM Registration

ACF is prohibited from making an award until an applicant has complied with the following requirements:

All applicants must have a DUNS number (www.dnb.com) and be registered with the System for Award Management (SAM, www.sam.gov).

DUNS Number Requirement

The Data Universal Numbering System (DUNS) Number is the nine-digit, or thirteen-digit (DUNS + 4), number established and assigned by Dun and Bradstreet, Inc. (D&B) to uniquely identify business entities.

All applicants and sub-recipients must have a DUNS number at the time of submission of the State plan in order to be considered for an award under a mandatory program.

A DUNS number is required whether an applicant is submitting a hard copy, paper State plan or using the OLDC system. Exemption procedures for submitting hard copy, paper State plans in lieu of electronic submission are discussed in an earlier section of this Notice. DUNS numbers are required for every State plan for a new award, including State plans under formula, entitlement, and block grant programs. A DUNS number may be acquired at no cost online at http://fedgov.dnb.com/webform.

System for Award Management

Applicants must maintain an active SAM registration until the State plan submission process is complete and throughout the life of the award. Applicants should finalize a new, or renew an existing, registration at least two weeks before the State plan submission deadline. This action should allow sufficient time to resolve any issues that may arise. Failure to comply with these requirements may result in the inability to submit a State plan or receive an award. Maintain documentation (with dates) of efforts made to register or renew a registration at least two weeks before the deadline. Please see the SAM Quick Guide for Grantees at: www.sam.gov/sam/transcript/SAM_Quick_Guide_Grants_Registrations-v1.6.pdf.

Applicants are strongly encouraged to register at SAM.gov well in advance of the State plan submission due date. Registration at SAM.gov must be updated annually.

Note: It can take 24 hours or more for updates to registrations at SAM.gov to take effect. An entity's registration will become active after 3-5 days. Therefore, check for active registration well before the State plan submission due date and deadline. Recipients can view the registration status by visiting http://www.bpn.gov/CCRSearch/Search.aspx and searching by the organization's DUNS number. See the SAM Quick Guide for Grantees at https://www.sam.gov/sam/transcript/SAM_Quick_Guide_Grants_Registrations-v1.6.pdf.

Statutory Authority: Financial Assistance Management Improvement Act of 1999, Pub. L. 106-107.

Robert Noonan,
Deputy Assistant Secretary for Administration, Administration for Children and Families.

[FR Doc. 2013-15465 Filed 6-27-13; 8:45 am]

BILLING CODE 4184-01-P